ENVIRONMENTAL PROTECTION AGENCY

40 CFR Part 52

[EPA-R05-OAR-2011-0598; FRL-9622-6]

Approval and Promulgation of Air Quality Implementation Plans; Illinois; Regional Haze

AGENCY: Environmental Protection Agency (EPA).

ACTION: Proposed rule.

SUMMARY: EPA is proposing to approve revisions to the Illinois State Implementation Plan (SIP) addressing regional haze for the first implementation period. Illinois submitted its regional haze plan on June 24, 2011. The Illinois regional haze plan addresses Clean Air Act (CAA) section 169B and Regional Haze Rule requirements for states to remedy any existing and prevent future anthropogenic impairment of visibility at mandatory Class I areas. EPA is also proposing to approve two state rules and incorporating two permits into the SIP.

DATES: Comments must be received on or before February 27, 2012.

ADDRESSES: Submit your comments, identified by Docket ID No. EPA-R05-OAR-2011-0598, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2011-0598. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Matt Rau, Environmental Engineer, at (312) 886-6524 before visiting the Region 5 office.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA.

Table of Contents

I. What should I consider as I prepare my comments for EPA?

II. What is the background for EPA's proposed action?

III. What are the requirements for regional haze SIPs?

IV. What is EPA's analysis of Illinois' regional haze plan?

V. What action is EPA taking?

VI. Statutory and Executive Order Reviews

I. What should I consider as I prepare my comments for EPA?

When submitting comments, remember to:

1. Identify the rulemaking by docket number and other identifying information (subject heading, Federal Register date and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What is the background for EPA's proposed action?

A. The Regional Haze Problem

Regional haze is visibility impairment that is produced by a multitude of sources and activities located across a broad geographic area that emit fine particles (PM2.5) (e.g., sulfates, nitrates, organic carbon, elemental carbon, and soil dust) and its precursors—sulfur dioxide (SO2), nitrogen oxides (NOX), and in some cases ammonia (NH3) and volatile organic compound (VOCs). Fine particle precursors react in the atmosphere to form fine particulate matter. Aerosol PM2.5 impairs visibility by scattering and absorbing light. Visibility impairment reduces the clarity and distance one can see. PM2.5 can also cause serious health effects and mortality in humans and contributes to detrimental environmental effects such as acid deposition and eutrophication.

Data from the existing visibility monitoring network, the “Interagency Monitoring of Protected Visual Environments” (IMPROVE) monitoring network, show that visibility impairment caused by air pollution occurs virtually all of the time at most national park and wilderness areas. The average visual range, the distance at which an object is barely discernable, in many Class I areas ¹ in the western United States is 100-150 kilometers. That is about one-half to two-thirds of the visual range that would exist without anthropogenic air pollution. In the eastern and midwestern Class I areas of the United States, the average visual range is generally less than 30 kilometers, or about one-fifth of the visual range that would exist under estimated natural conditions. 64 FR 35715 (July 1, 1999).

¹ Areas designated as mandatory Class I Federal areas consist of national parks exceeding 6000 acres, wilderness areas, and national memorial parks exceeding 5000 acres and all international parks that were in existence on August 7, 1977. 42 U.S.C. 7472(a). In accordance with section 169A of the CAA, EPA, in consultation with the Department of Interior, promulgated a list of 156 areas where visibility is identified as an important value. 44 FR 69122 (November 30, 1979). The extent of a mandatory Class I area includes subsequent changes in boundaries, such as park expansions. 42 U.S.C. 7472(a). Although states and tribes may designate as Class I additional areas which they consider to have visibility as an important value, the requirements of the visibility program set forth in section 169A of the CAA apply only to “mandatory Class I Federal areas.” Each mandatory Class I Federal area is the responsibility of a “Federal Land Manager.” 42 U.S.C. 7602(i). When we use the term “Class I area,” we mean “mandatory Class I Federal area.”

B. Requirements of the Clean Air Act and EPA's Regional Haze Rule

In section 169A of the 1977 Amendments to the CAA, Congress created a program for protecting visibility in the nation's national parks and wilderness areas. This section of the CAA establishes as a national goal the “prevention of any future, and the remedying of any existing, impairment of visibility in mandatory Class I Federal areas which impairment results from manmade air pollution.” On December 2, 1980, EPA promulgated regulations to address visibility impairment in Class I areas that is “reasonably attributable” to a single source or small group of sources known as, “reasonably attributable visibility impairment” (RAVI). 45 FR 80084. These regulations represented the first phase in addressing visibility impairment. EPA deferred action on regional haze that emanates from a variety of sources until monitoring, modeling, and scientific knowledge about the relationships between pollutants and visibility impairment were improved.

Congress added section 169B to the CAA in 1990 to address regional haze issues. EPA promulgated the Regional Haze Rule (RHR) on July 1, 1999 (64 FR 35713). The RHR revised the existing visibility regulations to integrate into the regulations provisions addressing regional haze impairment and established a comprehensive visibility protection program for Class I areas. The requirements for regional haze, found at 40 CFR 51.308 and 51.309, are included in EPA's visibility protection regulations at 40 CFR 51.300-309. Some of the main elements of the regional haze requirements are summarized in section III. The requirement to submit a regional haze SIP applies to all 50 states, the District of Columbia, and the Virgin Islands.²

² Albuquerque/Bernalillo County, New Mexico must also submit a regional haze SIP to satisfy the section 110(a)(2)(D) requirements of the CAA for the entire state under the New Mexico Air Quality Control Act (section 74-2-4).

C. Roles of Agencies in Addressing Regional Haze

Successful implementation of the regional haze program will require long-term regional coordination among states, tribal governments, and Federal agencies. Pollution affecting the air quality in Class I areas can be transported over long distances, even hundreds of kilometers. Therefore, effectively addressing the problem of visibility impairment in Class I areas means that states need to develop coordinated strategies that take into account the effect of emissions from one jurisdiction on the air quality of another state.

EPA has encouraged the states and tribes to address visibility impairment from a regional perspective because the pollutants that lead to regional haze can originate from sources located across broad geographic areas. Five regional planning organizations (RPOs) were developed to address regional haze and related issues. The RPOs first evaluated technical information to better understand how their states and tribes impact Class I areas across the country and then pursued the development of regional strategies to reduce PM2.5 emissions and other pollutants leading to regional haze.

The Midwest RPO (MRPO) is a collaborative effort of state governments and various Federal agencies established to initiate and coordinate activities associated with the management of regional haze, visibility, and other air quality issues in the Midwest. The member states are Illinois, Indiana, Michigan, Ohio, and Wisconsin.

III. What are the requirements for regional haze SIPs?

Regional haze SIPs must assure reasonable progress toward the national goal of achieving natural visibility conditions in Class I areas. Section 169A of the CAA and EPA's implementing regulations require states to establish long-term strategies for making reasonable progress toward meeting this goal. Plans must also give specific attention to certain stationary sources that were in existence on August 7, 1977, but were not in operation before August 7, 1962, and must require those sources to install emission controls reducing visibility impairment if appropriate. The specific regional haze SIP requirements are discussed in further detail below.

A. Determination of Baseline, Natural, and Current Visibility Conditions

The RHR establishes the deciview ³ (dv) as the principal metric or unit for expressing visibility impairment. This visibility metric expresses uniform proportional changes in haziness in terms of common increments across the entire range of visibility conditions, from pristine to extremely hazy conditions. Visibility expressed in deciviews is determined by using air quality measurements to estimate light extinction and then transforming the value of light extinction using a logarithm function. The deciview is a more useful measure for tracking progress in improving visibility than light extinction itself because each deciview change is an equal incremental change in visibility perceived by the human eye. Most people can detect a change in visibility at one deciview.

³ The preamble to the RHR provides additional details about the deciview. 64 FR 35714, 35725 (July 1, 1999).

The deciview is used in expressing RPGs, defining baseline, current, and natural conditions, and tracking changes in visibility. The regional haze SIPs must contain measures that ensure “reasonable progress” toward the national goal of preventing and remedying visibility impairment in Class I areas caused by anthropogenic air pollution. The national goal is a return to natural conditions such that anthropogenic sources of air pollution would no longer impair visibility in Class I areas.

To track changes in visibility over time at each of the 156 Class I areas covered by the visibility program (40 CFR 81.401-437) and as part of the process for determining reasonable progress, states must calculate the degree of existing visibility impairment at each Class I area at the time of each regional haze SIP submission and at the progress review every five years, midway through each 10-year implementation period. The RHR requires states with Class I areas (Class I states) to determine the degree of impairment in deciviews for the average of the 20 percent least impaired (best) and 20 percent most impaired (worst) visibility days over a specified time period at each of its Class I areas. Each state must also develop an estimate of natural visibility conditions for the purpose of comparing progress toward the national goal. Natural visibility is determined by estimating the natural concentrations of pollutants that cause visibility impairment and then calculating total light extinction based on those estimates. EPA has provided guidance to states regarding how to calculate baseline, natural, and current visibility conditions in documents titled, EPA's Guidance for Estimating Natural Visibility Conditions Under the Regional Haze Rule, September 2003, (EPA-454/B-03-005 located at http://www.epa.gov/ttncaaa1/t1/memoranda/rh_envcurhr_gd.pdf) (hereinafter referred to as “EPA's 2003 Natural Visibility Guidance”) and Guidance for Tracking Progress Under the Regional Haze Rule (EPA-454/B-03-004 September 2003 located at http://www.epa.gov/ttncaaa1/t1/memoranda/rh_tpurhr_gd.pdf) (EPA's 2003 Tracking Progress Guidance).

For the first regional haze SIP, the “baseline visibility conditions” are the starting points for assessing “current” visibility impairment. Baseline visibility conditions represent the degree of visibility impairment for the 20 percent best days and 20 percent worst days for each calendar year from 2000 to 2004. Using monitoring data for 2000 through 2004, states calculate the average degree of visibility impairment for each Class I area, based on the average of annual values over the five-year period. The comparison of initial baseline visibility conditions to natural visibility conditions indicates the amount of improvement necessary to attain natural visibility, while the future comparison of baseline conditions to the then current conditions will indicate the amount of progress made. In general, the 2000 to 2004 baseline period is considered the time from which improvement in visibility is measured.

B. Determination of Reasonable Progress Goals (RPGs)

The vehicle for ensuring continuing progress towards achieving the natural visibility goal is the submission of a series of regional haze SIPs from the states that establish two distinct RPGs, one for the best days and one for the worst days for every Class I area for each approximately 10-year implementation period. The RHR does not mandate specific milestones or rates of progress, but instead calls for states to establish goals that provide for “reasonable progress” toward achieving natural visibility conditions. In setting RPGs, Class I states must provide for an improvement in visibility for the worst days over the approximately 10-year period of the SIP and ensure no degradation in visibility for the best days.

Class I states have significant discretion in establishing RPGs, but are required to consider the following factors established in section 169A of the CAA and in EPA's RHR at 40 CFR 51.308(d)(1)(i)(A): (1) The costs of compliance; (2) the time necessary for compliance; (3) the energy and non-air quality environmental impacts of compliance; and, (4) the remaining useful life of any potentially affected sources. The state must demonstrate in its SIP how these factors are considered when selecting the RPGs for the best and worst days for each applicable Class I area. States have considerable flexibility in how they take these factors into consideration, as noted in EPA's Guidance for Setting Reasonable Progress Goals Under the Regional Haze Program, (“EPA's Reasonable Progress Guidance”), July 1, 2007, memorandum from William L. Wehrum, Acting Assistant Administrator for Air and Radiation, to EPA Regional Administrators, EPA Regions 1-10 (pp. 4-2, 5-1). In setting the RPGs, states must also consider the rate of progress needed to reach natural visibility conditions by 2064 (“uniform rate of progress” or “glide path”) and the emissions reduction needed to achieve that rate of progress over the approximately 10-year period of the SIP. In setting RPGs, each Class I state must also consult with potentially contributing states, i.e. those states that may affect visibility impairment at the Class I state's areas. 40 CFR 51.308(d)(1)(iv).

C. Best Available Retrofit Technology (BART)

Section 169A of the CAA directs states to evaluate the use of retrofit controls at certain older large stationary sources to address visibility impacts from these sources. Specifically, CAA section 169A(b)(2)(A) requires states to revise their SIPs to contain such measures as may be necessary to make reasonable progress towards the natural visibility goal including a requirement that certain categories of existing major stationary sources built between 1962 and 1977 procure, install, and operate BART as determined by the state. The set of “major stationary sources” potentially subject to BART is listed in CAA section 169A(g)(7). The state can require source-specific BART controls, but it also has the flexibility to adopt an alternative such as a trading program as long as the alternative provides greater progress towards improving visibility than BART.

On July 6, 2005, EPA published the Guidelines for BART Determinations Under the Regional Haze Rule at Appendix Y to 40 CFR Part 51 (BART Guidelines) to assist states in determining which of their sources should be subject to the BART requirements and in determining appropriate emission limits for each applicable source. A state must use the approach in the BART Guidelines in making a BART determination for fossil fuel-fired electric generating units (EGUs) with total generating capacity in excess of 750 megawatts. States are encouraged, but not required, to follow the BART Guidelines in making BART determinations for other sources.

States must address all visibility-impairing pollutants emitted by a source in the BART determination process. The most significant visibility impairing pollutants are SO2, NOX, and PM. EPA has stated that states should use their best judgment in determining whether VOC or NH3 compounds impair visibility in Class I areas.

States may select an exemption threshold value for their BART modeling under the BART Guidelines, below which a BART-eligible source would not be expected to cause or contribute to visibility impairment in any Class I area. The state must document this exemption threshold value in the SIP and must state the basis for its selection of that value. The exemption threshold set by the state should not be higher than 0.5 dv. Any source with emissions that model above the threshold value would be subject to a BART determination review. The BART Guidelines acknowledge varying circumstances affecting different Class I areas. States should consider the number of emission sources affecting the Class I areas at issue and the magnitude of the individual source's impact.

The state must identify potential BART sources in its SIP, described as “BART-eligible sources” in the RHR, and document its BART control determination analyses. In making BART determinations, section 169A(g)(2) of the CAA requires the state to consider the following factors: (1) The costs of compliance; (2) the energy and non-air quality environmental impacts of compliance; (3) any existing pollution control technology in use at the source; (4) the remaining useful life of the source; and, (5) the degree of improvement in visibility which may reasonably be anticipated to result from the use of such technology. A regional haze SIP must include source-specific BART emission limits and compliance schedules for each source subject to BART. The BART controls must be installed and in operation as expeditiously as practicable, but no later than five years after the date of EPA's approval of the state's regional haze SIP. CAA section 169(g)(4); 40 CFR 51.308(e)(1)(iv). In addition to what is required by the RHR, general SIP requirements mandate that the SIP must also include all regulatory requirements related to monitoring, recordkeeping, and reporting for the BART controls on the source.

D. Long-Term Strategy

Consistent with the requirement in section 169A(b) of the CAA that states include in their regional haze SIP a 10 to 15 year strategy for making reasonable progress, section 51.308(d)(3) of the RHR requires that states include a long-term strategy (LTS) in their regional haze SIPs. The LTS is the compilation of all control measures a state will use during the implementation period of the specific SIP submittal to meet applicable RPGs. The LTS must include enforceable emissions limitations, compliance schedules, and other measures as necessary to achieve the RPGs for all Class I areas within or affected by emissions from the state. 40 CFR 51.308(d)(3).

When a state's emissions are reasonably anticipated to cause or contribute to visibility impairment in a Class I area located in another state, the RHR requires the impacted state to coordinate with the contributing states in order to develop coordinated emissions management strategies. 40 CFR 51.308(d)(3)(i). In such cases, the contributing state must demonstrate that it has included in its SIP all measures necessary to obtain its share of the emission reductions needed to meet the RPGs for the Class I area. The RPOs have provided forums for significant interstate consultation, but additional consultations between states may be required to address interstate visibility issues sufficiently.

States should consider all types of anthropogenic sources of visibility impairment in developing their LTS, including stationary, minor, mobile, and area sources. At a minimum, states must describe how each of the following seven factors are taken into account in developing their LTS: (1) Emission reductions due to ongoing air pollution control programs, including measures to address RAVI; (2) measures to mitigate the impacts of construction activities; (3) emissions limitations and schedules for compliance to achieve the RPG; (4) source retirement and replacement schedules; (5) smoke management techniques for agricultural and forestry management purposes including plans as currently exist within the state for these purposes; (6) enforceability of emissions limitations and control measures; and, (7) the anticipated net effect on visibility due to projected changes in point, area, and mobile source emissions over the period addressed by the LTS. 40 CFR 51.308(d)(3)(v).

E. Coordinating Regional Haze and Reasonably Attributable Visibility Impairment Long-Term Strategy

EPA revised 40 CFR 51.306(c) as part of the RHR regarding the LTS for RAVI to require that the RAVI plan must provide for a periodic review and SIP revision not less frequently than every three years until the date of submission of the state's first plan addressing regional haze visibility impairment in accordance with 40 CFR 51.308(b) and (c). The state must revise its plan to provide for review and revision of a coordinated LTS for addressing RAVI and regional haze on or before this date. It must also submit the first such coordinated LTS with its first regional haze SIP. Future coordinated LTSs, and periodic progress reports evaluating progress towards RPGs, must be submitted consistent with the schedule for SIP submission and periodic progress reports set forth in 40 CFR 51.308(f) and 51.308(g), respectively. The periodic review of a state's LTS must report on both regional haze and RAVI impairment and be submitted to EPA as a SIP revision.

F. Monitoring Strategy and Other Implementation Plan Requirements

Section 51.308(d)(4) of the RHR includes the requirement for a monitoring strategy for measuring, characterizing, and reporting of regional haze visibility impairment that is representative of all mandatory Class I Federal areas within the state. The strategy must be coordinated with the monitoring strategy required in section 51.305 for RAVI. Compliance with this requirement may be met through participation in the IMPROVE network, meaning that the state reviews and uses monitoring data from the network. The monitoring strategy must also provide for additional monitoring sites if the IMPROVE network is not sufficient to determine whether RPGs will be met. The monitoring strategy is due with the first regional haze SIP and must be reviewed every five years.

The SIP must also provide for the following:

• Procedures for using monitoring data and other information in a state with mandatory Class I areas to determine the contribution of emissions from within the state to regional haze visibility impairment at Class I areas both within and outside of the state;

• Procedures for using monitoring data and other information in a state with no mandatory Class I areas to determine the contribution of emissions from within the state to regional haze visibility impairment at Class I areas in other states.

• Reporting of all visibility monitoring data to the Administrator at least annually for each Class I area in the state, and where possible in electronic format;

• A statewide inventory of emissions of pollutants that are reasonably anticipated to cause or contribute to visibility impairment in any Class I area. The inventory must include emissions for a baseline year, emissions for the most recent year with available data, and future projected emissions. A state must also make a commitment to update the inventory periodically; and

• Other elements including reporting, recordkeeping, and other measures necessary to assess and report on visibility;

The RHR requires control strategies to cover an initial implementation period extending to the year 2018 with a comprehensive reassessment and revision of those strategies, as appropriate, every 10 years thereafter. Periodic SIP revisions must meet the core requirements of section 51.308(d) with the exception of BART. The requirement to evaluate sources for BART applies only to the first regional haze SIP. Facilities subject to BART must continue to comply with the BART provisions of section 51.308(e), as noted above. Periodic SIP revisions will assure that the statutory requirement of reasonable progress will continue to be met.

G. Consultation With States and Federal Land Managers

The RHR requires that states consult with Federal Land Managers (FLMs) before adopting and submitting their SIPs. 40 CFR 51.308(i). States must provide FLMs an opportunity for consultation, in person and at least 60 days prior to holding any public hearing on the SIP. This consultation must include the opportunity for the FLMs to discuss their assessment of impairment of visibility in any Class I area and to offer recommendations on the development of the RPGs and on the development and implementation of strategies to address visibility impairment. Further, a state must include in its SIP a description of how it addressed any comments provided by the FLMs. Finally, a SIP must provide procedures for continuing consultation between the state and FLMs regarding the state's visibility protection program, including development and review of SIP revisions, five-year progress reports, and the implementation of other programs having the potential to contribute to impairment of visibility in Class I areas.

IV. What is EPA's analysis of Illinois' regional haze plan?

Illinois submitted its regional haze plan on June 24, 2011, which included revisions to the Illinois SIP to address regional haze.

A. Class I Areas

States are required to address regional haze affecting Class I areas within a state and in Class I areas outside the state that may be affected by the state's emissions. 40 CFR 51.308(d). Illinois does not have any Class I areas within the state. Illinois reviewed technical analyses conducted by MRPO to determine what Class I areas outside the state are affected by Illinois emission sources. MRPO conducted both a back trajectory analysis and modeling to determine the affects of its states' emissions. The conclusion from the technical analysis is that emissions from Illinois sources affect 19 Class I areas. The affected Class I areas are: Sipsey Wilderness Area in Alabama; Caney Creek and Upper Buffalo Wilderness Areas in Arkansas; Mammoth Cave in Kentucky; Acadia National Park and Moosehorn Wilderness Area in Maine; Isle Royale National Park and Seney Wilderness Area in Michigan; Boundary Waters Canoe Wilderness Area in Minnesota; Hercules-Glades and Mingo Wilderness Areas in Missouri; Great Gulf Wilderness Area in New Hampshire; Brigantine Wilderness Area in New Jersey; Great Smoky Mountains National Park in North Carolina and Tennessee; Lye Brook Wilderness Area in Vermont; James River Face Wilderness Area and Shenandoah National Park in Virginia; and, Dolly Sods/Otter Creek Wilderness Area in West Virginia.

B. Baseline, Current, and Natural Conditions

The RHR requires states with Class I areas to calculate the baseline and natural conditions for their Class I areas. Because Illinois does not have any Class I areas, it was not required to address the requirements for calculating baseline and natural conditions.

C. Reasonable Progress Goals

Class I states must set RPGs that achieve reasonable progress toward achieving natural visibility conditions. Because Illinois does not have any Class I areas, it is not required to establish RPGs. Illinois consulted with affected Class I states to ensure that it achieves its share of the overall emission reductions necessary to achieve the RPGs of Class I areas that it impacts. Illinois's coordination with affected Class I states is discussed under Illinois Long Term Strategy, in Section IV. E.

Illinois included the MRPO technical support document (TSD) in its submission. In Section 5 of the TSD, MRPO assessed the reasonable progress for regional haze. It first assessed potential control measures using the four factors required to be considered by Class I states when selecting the RPGs: the cost of compliance, time needed, energy and non-air impacts, and remaining useful life of any potentially affected sources. The cost of compliance factor includes calculating the average cost effectiveness and can include costs to health and industry vitality as well as considering the different visibility effects of different pollutants. The time necessary for compliance factor considers whether control measures can be implemented by 2018. The third factor, energy and non-air quality impacts, considers additional energy consumed by or because of the control measure as well as effects due to waste generated or water consumption. The final factor, remaining useful life, allows states to consider planned source retirements in calculating costs.

MRPO also assessed the visibility benefits of existing programs. MRPO considered existing on-highway mobile source, off-highway mobile source, area source, power plant, and other point source programs. MRPO also included reductions from the Clean Air Interstate Rule (CAIR) in its analysis, as well from rules adopted by Illinois and included in its regional haze SIP requiring the control of emissions from EGUs.

Illinois has a distinctive situation regarding CAIR, insofar as it has adopted state rules that require EGUs to control NOX and SO2 emissions beyond the control expected from CAIR, even in the absence of CAIR, particularly by 2018 and beyond. Further discussion of these Illinois rules is provided below. The RPGs that pertinent Class I states have adopted are predicated on other contributing states achieving the EGU emission reductions anticipated under CAIR. Since Illinois is mandating a greater degree of control than is expected from other states, EPA concludes that Illinois's regional haze plan is expected to provide emission reductions representing an appropriate contribution toward meeting the RPGs for the affected Class I areas, irrespective of the status of CAIR and irrespective of the associated issues regarding the adequacy of other state's plans. For similar reasons, EPA believes that the approvability of the Illinois plan is also not affected by the status of the Transport Rule, which was promulgated on August 8, 2011 at 76 FR 48208 and stayed on December 30, 2011.

D. Best Available Retrofit Technology

States are required to submit an implementation plan containing emission limitations representing BART and schedules for compliance with BART for each BART-eligible source that may reasonably be anticipated to cause or contribute to any impairment in a Class I area, unless the State demonstrates that an emissions trading program or other alternative will achieve greater reasonable progress toward natural visibility conditions. 40 CFR 51.308(e).

Using the criteria in the BART Guidance at 40 CFR 51.308(e) and Appendix Y, Illinois first identified all of the BART-eligible sources and assessed whether the BART-eligible sources were subject to BART. Illinois initially identified 26 potential BART facilities—11 EGUs, four petroleum refineries, three chemical process plants, two Portland cement plants, two glass fiber processing plants, one lime plant, and one iron and steel plant. The state further analyzed these facilities to identify those sources subject to BART. Illinois relied on modeling conducted by MRPO using a modeling protocol MRPO developed. MRPO conferred with its states, EPA, and the FLMs in developing its BART modeling protocol. EPA guidance says that, “any threshold that you use for determining whether a source `contributes' to visibility impairment should not be higher than 0.5 dv.” The Guidelines affirm that states are free to use a lower threshold if the location of a large number of BART-eligible sources in proximity of a Class I area justifies this approach. Illinois used a contribution threshold of 0.5 dv for determining which sources warrant being subject to BART. Illinois concluded that the threshold of 0.5 dv was appropriate since its BART-eligible sources are located state-wide and no Class I areas are nearby causing Illinois to correctly conclude that a stricter contribution threshold is not justified. The modeled impact of these facilities indicated that 11 sources have at least 0.5 dv impact (98th percentile) and thus are subject to BART. The 11 sources determined to be subject to BART are nine EGUs and two petroleum refineries. The other 15 potential BART sources were determined not to be subject to BART because the analysis showed impacts well below the 0.5 dv contribution threshold.

The EGUs subject to BART are:

• Dynegy Midwest Generating—Baldwin Boilers 1, 2, and 3.

• Dominion Kincaid Generation—Boilers 1 and 2.

• Ameren Energy Generating—Coffeen Boilers CB-1 and CB-2.

• Ameren Energy Generating—E.D. Edwards Boilers 2 and 3.

• Ameren Energy Generating—Duck Creek Boiler 1.

• Midwest Generation—Powerton Boilers 51, 52, 61, and 62.

• Midwest Generation—Joliet Boilers 71, 72, 81, and 82.

• Midwest Generation—Will County Boiler 4.

• City Water, Light, and Power—Dallman Boiler 1 and 2.

• City Water, Light, and Power—Lakeside Boiler 8.

To address mercury emissions from EGUs, Illinois adopted Part 225 of Illinois's air pollution regulations, entitled “Control of Emissions from Large Combustion Sources.” In this rule, Illinois offered affected utilities two options, one of which imposes stringent limits on mercury emissions alone and the other of which mandates implementation of specific mercury control technology in conjunction with satisfaction of stringent emission limits for SO2 and NOX. Part 225 includes section 225.233, entitled “Multi-Pollutant Standards,” addressing emissions from facilities owned by Ameren and Dynegy, and sections 225.293 to 225.299, collectively referred to as the Combined Pollutant Standards (CPS), addressing emissions from facilities owned by Midwest Generation. In all cases, the utilities have selected the option including mercury control technology and applicability of the SO2 and NOX limits. The emission limits are in the earlier noted sections of the state rules, so these SO2 and NOX limits are now fully enforceable by the state.

The SO2 and NOX emission limits in Part 225 rules reflect substantial averaging across units and across facilities. For example, the collective set of facilities in Illinois owned by Midwest Generation (as listed in the Part 225 rules) are subject to NOX and SO2 limits based on annual average emissions across all facilities. The limit for NOX emissions is 0.11 pounds per million British Thermal Units (lb/MMBTU) starting in 2012 and the limits for SO2 are 0.15 lb/MMBTU in 2017 and 0.11 lb/MMBTU starting in 2019. The collective set of Ameren facilities in Illinois, under the Multi-Pollutant Standards (MPS), must meet an annual average emission limit for NOX of 0.11 lb/MMBTU starting in 2012 and for SO2 of 0.23 lb/MMBTU starting in 2017. Similar limits under the MPS apply to the Dynegy facilities in Illinois.

EPA believes this degree of averaging is acceptable in this context. The limits that Illinois has imposed are sufficiently stringent that the companies have only limited latitude to over control at some facilities in trade for having elevated emissions at other facilities. The facilities owned by each company are sufficiently close to each other, relative to their distances from the nearest Class I areas, that modest shifts in emissions from one facility to another should have minimal impact on the combined impact on regional haze at the Class I areas. Furthermore, regional haze is evaluated across a considerable number of days, e.g., the 20 percent of days with the worst visibility. Therefore, a limit that allows elevated emissions on individual days, so long as other days have lower emissions, should suffice to address the pertinent measures of regional haze. Illinois's limits should also be adequately enforceable since the sources at issue are required to conduct continuous emission monitoring of both SO2 and NOX.

Dynegy has five facilities with 10 units covered by MPS, including the three Dynegy Baldwin units that are subject to BART. Emission reductions required for seven other Dynegy units not subject to BART will allow it meet the MPS reduction requirements. MPS will reduce emissions from all Dynegy facilities by 23,831 tons per year (TPY) of NOX and 47,347 TPY of SO2, as compared to emissions in the 2002 base year.

Ameren has seven facilities with 21 units covered by MPS. This includes the subject to BART units: Coffeen units 1 and 2, Duck Creek unit 1, and Edwards units 2 and 3. Ameren has installed selective catalytic reduction (SCR) for NOX control and wet scrubbers to limit SO2 emissions from both Coffeen units. Duck Creek unit 1 is controlled by low NOX burners, SCR, and wet scrubbers. Edwards unit 2 will receive an upgraded low NOX burner and overfire air (OFA) to reduce NOX emissions. Edwards unit 3 is already controlled for NOX with low NOX burners, OFA, and SCR. Ameren plans to install a new scrubber and fabric filter at Edwards unit 3. Company-wide reductions from Ameren EGUs are projected to be 27,896 TPY NOX and 131,367 TPY SO2 by 2015 and 134,464 TPY of SO2 by 2017.

Midwest Generating operates six facilities with 19 total units that must comply with CPS, including the Midwest Generation units subject to BART: Powerton units 51, 52, 61, and 62; Joliet units 71, 72, 81, and 82; and Will County unit 4. The four Powerton units currently have low NOX burners and OFA. Midwest Generation plans to add selective non-catalytic reduction (SNCR) in 2012 to reduce NOX emissions and flue gas desulfurization (FGD) in 2013 to cut SO2 emissions. Both control improvements will be added to all four units. Midwest Generating's Joliet facility currently has low NOX burners and OFA on its four BART units. SNCR is expected to be added in 2012 to all four BART units. Midwest Generating is also planning to add FGD on units 71, 72, 81, and 82 by 2019. Will County unit 4 is currently controlled with low NOX burners and OFA. Midwest Generating plans to upgrade the NOX control to SNCR in 2012 and to add FGD control by 2019. CPS will reduce NOX emissions from all Midwest Generating facilities by 38,155 TPY, while SO2 emissions will decrease by 35,465 TPY in 2015, increasing to a 61,194 TPY reduction in 2019.

A state may opt to implement an alternate measure rather than requiring each subject to BART unit to install, operate, and maintain BART if it demonstrates that the alternate measure will achieve greater reasonable progress. The criteria for the assessment if an alternative measure demonstrates greater reasonable progress are provided in 40 CFR 51.308(e)(2). MPS will reduce emissions from both subject to BART and non-BART units at the Ameren and Dynegy facilities. Similarly, CPS will require emission reductions from Midwest Generation's subject to BART and non-BART units. Illinois elected to use MPS and CPS participation as alternative to requiring BART control on each of the Ameren, Dynegy, and Midwest Generation units subject to BART. Illinois stated that implementation of the MPS and CPS emission limits will provide much deeper NOX and SO2 reductions than implementing BART on the subject to BART units and thus the alternate will provide greater reasonable progress. However, Illinois did not provide an analysis comparing BART for each subject unit to the alternative. Illinois compared the emission reductions from MPS and CPS to the presumptive BART emission levels suggested in EPA's guidance. EPA generally requires states to compare the alternative strategy to a fully analyzed set of BART limits for the BART-subject units. However, in this case, the results of such a comparison are clear even without Illinois conducting a full BART analysis for these units. The total NOX emission reductions due to MPS on Dynegy EGUs are greater than the base year NOX emissions from Dynegy's subject to BART units. Therefore, the emission reductions from MPS are greater than the maximum possible reductions from the BART units. The same is true for SO2 emissions for the Dynegy EGUs, the NOX emissions from the Ameren EGUs, and the SO2 emissions from the Ameren EGUs. Similarly, the total NOX emission reductions from all Midwest Generating are greater than the NOX emissions from the BART units and the same for its SO2 emissions. Therefore, even without a full analysis of the precise emission levels that would constitute BART for the BART-subject units, EPA finds that the Illinois rules, MPS and CPS, are an acceptable BART alternative because the emission reductions are greater than the reductions that could possibly be obtained by only requiring BART at the BART-subject units.

Three other EGUs, owned by two other utilities Dominion Energy and the City of Springfield's City Water, Light, and Power (CWLP), are not covered by MPS and CPS but have units subject to BART. CWLP is a smaller utility with a total generating capacity of less than 750 MW and Dominion Energy has only one electric generating facility in Illinois such that these utilities do not have the opportunities for multi-plant averaging of emission limits that the larger utilities have. Rather than adopting an alternative program to address the BART requirements for these two utilities, Illinois is requiring these utilities to meet the BART requirements for the units subject to BART and establish enforceable emission limits for SO2 and NOX. CWLP's Dallman and Lakeside plants, along with Dominion's Kincaid plant, have units subject to BART. Both utilities must reduce emissions to meet the BART limits. The emission limits for Dallman units 31 and 32, Lakeside unit 8, and Kincaid units 1 and 2 are contained in Joint Construction and Operating permits. Illinois evaluated potential controls and what control level the current emission controls can achieve in setting the BART emission limits for the CWLP Dallman and Dominion Kincaid units.

CWLP currently has SCRs and FGD on Dallman units 31 and 32. As of 2010, CWLP has been operating the SCRs to achieve an annual average NOX emission rate of 0.14 lb/MMBTU on both Dallman units, combined. The annual average NOX emission rate will be limited to 0.12 lb/MMBTU by 2015 and then further decreased to 0.11 lb/MMBTU by 2017 for both units, combined. CWLP will operate the controls to achieve an annual average SO2 emissions rate on both Dallman units, combined, of 0.29 lb/MMBTU by 2012, then reduced to 0.25 lb/MMBTU by 2015, and finally to 0.23 lb/MMBTU by 2017. Illinois has determined these emission limits satisfy BART for both units. CWLP permanently shut down Lakeside unit 8 in 2009, which is reflected in the permit.

Dominion's Kincaid facility operates SCRs on its units 1 and 2. The permit for the Kincaid facility limits NOX emissions to an annual average of 0.07 lb/MMBTU by March 1, 2013, on both units, combined. Illinois determined the appropriate SO2 control system for Kincaid is a dry sorbent injection system along with using low sulfur coal. Illinois initially gave the Kincaid facility a SO2 emission limit of 0.20 lb/MMBTU on both units, but found that a stricter limit of 0.15 lb/MMBTU can be achieved with the control system. Illinois thus set the SO2 emission limits for both Kincaid units, combined, at an annual average emission rate of 0.20 lb/MMBTU by January 1, 2014, and reduced the limit further to an annual average emission rate of 0.15 lb/MMBTU beginning on January 1, 2017.

Illinois issued the Joint Construction and Operating permits pursuant to its authority in the SIP and submitted the two permits as part of its Regional Haze plan to be incorporated into the SIP. The permits set Federally enforceable NOX and SO2 limits as necessary to meet the Regional Haze requirements of the CAA and effectively mandate that the utilities to run the SCRs year round and for CWLP to shut down its Lakeside unit 8.

Two petroleum refineries, the CITGO and Exxon Mobil refineries, also have units subject to BART: the CITGO refinery in Lemont, Illinois and the Exxon Mobil refinery south of Joliet, Illinois. Both refineries will be required to reduce emissions by a Federal consent decree resolving an enforcement action brought by EPA against a number of refineries. The consent decrees require the CITGO, Exxon Mobil, and the other refineries to operate controls at the Best Available Control Technology level. Illinois evaluated the subject-to-BART units at the CITGO and Exxon Mobil refineries. It found that the NOX and SO2 emission limits on the subject-to-BART units in the consent decrees satisfy BART.

A consent decree between the United States and CITGO Petroleum Corporation was entered in the U.S. District Court for the Southern District of Texas on October 6, 2004 (No. H-04-3883). The consent decree requires the company to operate SCR and a wet scrubbing system at its Fluid Catalytic Cracking Unit (FCCU) that will reduce NOX emissions by more than 90 percent and SO2 emissions by 85 percent. The controls on the FCCU will result in a reduction of NOX emissions from 1,065.7 to 106.6 TPY and SO2 emissions from 10,982.5 to 107.9 TPY by 2013. CITGO has also added a tail gas recovery unit that reduces SO2 emissions from its sulfur train units from 4340.0 to 91.2 TPY, a 98 percent reduction. The emission controls on all units at CITGO's Lemont refinery will reduce NOX emissions by 1,268 TPY and SO2 emissions by 15,123 TPY.

A consent decree between the United States and Exxon Mobil Corporation was entered in the U.S. District Court for the Northern District of Illinois on October 11, 2005 (No. O5-C-5809). The consent decree for Exxon Mobil requires SCR operation on its FCCU in addition to maintenance of the existing wet scrubbing system. The controls on the FCCU result in a 1,636.2 TPY decrease in NOX emissions from 1,818.0 to 181.8 TPY and a 9,667.7 TPY decrease in SO2 emissions from 9,865.0 to 197.3 TPY. Exxon Mobil also has added a tail gas recovery unit on its south sulfur recovery unit. That reduces SO2 emissions by 9,153.8 TPY to 186.8 TPY. The emission controls at Exxon Mobil's Joliet refinery will reduce 1,695 TPY NOX and 18,821 TPY SO2.

These two consent decrees are Federally enforceable and also require that the refineries submit permit applications to Illinois to incorporate the required emission limits into Federally enforceable air permits (other than Title V). Therefore, emission limits established by the consent decrees may be relied upon by Illinois for addressing the BART requirement for these facilities.

Based on modeling, MRPO determined that the visibility impact of directly emitted particulate matter from the facilities with subject to BART units is minimal. In particular, MRPO assessed the impact of the directly emitted particulate matter from all facilities potentially subject to BART in the five MRPO states, and found the impact to be less than 0.5 dv at any Class I area as compared to natural background conditions. Illinois therefore concludes that PM emissions from its subset of these BART sources have a negligible visibility impact. Furthermore, these facilities are already subject to federally enforceable PM emission control requirements mandated by SIP-approved state particulate matter regulations, so that there is minimal potential for further PM emission reductions. Therefore, based particularly on the substantial existing controls on these facilities- fabric filters, electrostatic precipitators, and cyclones; and the minimal benefits of further control, Illinois concluded that BART did not include further control of PM emissions from these facilities.

EPA is satisfied with the state's BART determinations. The emission limits that Illinois adopted generally will require state-of-the-art emission controls, not just at the units subject to BART requirements but also at numerous units that are not subject to BART. The Illinois facilities subject to BART are a long distance from any Class I area such that, so the geographical redistributions of emissions within Illinois do not significantly affect visibility and the benefits of alternate control strategies may be judged simply by comparing the net emission reductions. The MPS and CPS provide emission reduction well in excess of simply implementing BART on subject units. The reduction in NOX emissions from the Ameren, Dynegy, and Midwest Generation units by 2015 from MPS and CPS is expected to be 89,882 TPY. Illinois estimated that simply implementing BART on the subject units from these entities would yield 32,992 TPY of NOX emission reductions, which is 56,890 TPY less that from MPS and CPS. Illinois estimated that implementing BART on the subject units at Ameren, Dynegy, and Midwest Generation facilities would require an 117,252 TPY reduction in SO2 emission, but MPS and CPS will require a 214,179 TPY SO2 reduction by 2015. Thus, Illinois estimated that its plan will require 96,927 TPY lower SO2 emissions than simply requiring BART. EPA believes that Illinois has thereby demonstrated the emission limits on the subject to BART units covered by MPS and CPS satisfy the BART requirements.

Illinois did not rely on the Clean Air Interstate Rule (CAIR) for its BART determinations. Illinois is in the CAIR region. However, it used its state rules, permits, and consent decrees to achieve emission reductions that satisfy BART. This means that Illinois is not reliant on CAIR and, thus, it has avoided the issues of other CAIR region states that relied on CAIR. For similar reasons, Illinois' satisfaction of regional haze rule requirements is not contingent on the Transport Rule and thus is not affected by the stay of that rule.

E. Long-Term Strategy

Under section 169A(b)(2) of the CAA and 40 CFR 51.308(d), states' regional haze programs must include an LTS for making reasonable progress toward meeting the national visibility goal. Illinois's LTS must address visibility improvement for the Class I areas impacted by Illinois sources. Section 51.308(d)(3) requires that Illinois consult with the affected states in order to develop a coordinated emission management strategy. A contributing state, such as Illinois, must demonstrate that it has included, in its SIP, all measures necessary to obtain its share of the emissions reductions needed to meet the RPGs for the Class I areas affected by Illinois sources. As described in section III.D. of this proposed rule, the LTS is the compilation of all control measures Illinois will use to meet applicable RPGs. The LTS must include enforceable emissions limitations, compliance schedules, and other measures as necessary to achieve the RPGs for all Class I areas affected by Illinois emissions.

Illinois complied with the consulting requirements by participating in meetings and conference calls with affected Class I states and RPOs to discuss the states' assessments of visibility conditions, analyses of culpability, and possible measures that could be taken to meet visibility goals. Illinois engaged in extensive consultations with other MRPO states, including Indiana, Michigan, Ohio, and Wisconsin. Illinois also consulted with Arkansas, Kentucky, Minnesota, Missouri, New Hampshire, New Jersey, and Vermont. As part of the MRPO, Illinois participated in inter-RPO consultation on regional haze. This consultation is detailed in Chapter 9 of the state's plan. EPA finds that the state's consultation with Class I states satisfies applicable consultation requirements.

Illinois's LTS includes the modeling and monitoring results on which it relied to determine its share of emission reductions necessary to meet the reasonable progress goals of impacted Class I areas. This information is provided in Chapter 9 of the Illinois regional haze plan. Portions of this technical work were provided by MRPO as it worked with other RPOs to provide this information on Class I areas outside the Midwest.

At 40 CFR 51.308(d)(3)(v), the RHR identifies seven factors that a state must consider in developing its LTS: (A) Emission reductions due to ongoing programs; (B) measures to mitigate impact from construction; (C) emission limits to achieve the RPG; (D) replacement and retirement of sources; (E) smoke management techniques; (F) Federally enforceable emission limits and control measures; and (G) the net effect on visibility due to projected emission changes over the LTS period. Illinois considered the seven factors in developing its LTS. Chapter 8 of the Illinois regional haze plan provides a full analysis of each factor.

Illinois relied on MRPO's modeling and analysis along with its emission information in developing a LTS. Illinois considered the factors set out in 51.308(d)(3)(v) in developing its LTS. Based on these factors and the MRPO's technical analysis, in conjunction with RPGs that were set by the pertinent Class I states in consultation with Illinois and other contributing states, Illinois concludes that existing control programs, together with the BART controls described above, address Illinois's impact on Class I areas. This is because the combination of the existing controls and the BART controls suffice to meet the impacted Class I areas' RPGs by 2018. These existing control programs include Federal motor vehicle emission control program, reformulated gasoline, emission limits for area sources of VOCs, Title IV, the NOX SIP Call, NOX Reasonable Achievable Control Technology, Maximum Achievable Control Technology standards, and Federal non-road standards for construction equipment and vehicles. As discussed in prior sections, implementation of the existing control programs, supplemented by the control measures in the submission that require power plant and petroleum refinery emission reductions, will satisfy the LTS requirements because, for reasons discussed above, the expected emission reductions will meet requirements both to provide for BART and to provide emission reductions in Illinois that, in combination with emission reductions elsewhere, should improve visibility sufficiently for the pertinent Class I areas to meet their RPGs.

Illinois assessed all point sources in the state that emit at least 1,000 TPY of NOX and SO2 combined and are more than 100 km from a Class I area to determine if the sources could potentially affect visibility in a Class I area. The assessment followed EPA guidance in calculating the ratio of emission rate in TPY (Q) to the distance to the nearest Class I area (d). The exclusions also followed guidance. Illinois found 15 facilities with a Q/d ratio equal to and greater than 10, EPA's recommended threshold. The results of the Q/d assessment are found in Table 8.1 in the Illinois TSD. Illinois found that it expects the implementation of existing control measures will result in emission reductions from the 15 facilities. As such, Illinois believes that the expected emission reductions will ensure reasonable progress.

F. Monitoring Strategy

Illinois maintains a monitoring network that provides data to analyze air quality problems including regional haze. Illinois's monitoring network includes State and Local Air Monitoring Sites (SLAMS), Special Purpose Monitors (SPM), Photochemical Assessment Monitoring Sites (PAMS), and PM2.5 speciation sites. Illinois does not operate any sites under the IMPROVE program, but does have a site in Bondville, Illinois that monitors using the IMPROVE procedure method. Illinois is required under 40 CFR 51.308(d)(4) to have procedures for using the monitoring data to determine the contribution of emissions from within the state to affected Class I areas. Illinois developed procedures in conjunction with the MRPO. The procedures are detailed in the MRPO TSD. EPA finds that Illinois's regional haze plan meets the monitoring requirements for the RHR and that Illinois's network of monitoring sites is satisfactory to measure air quality and assess its contribution to regional haze.

G. Federal Land Manager Consultation

Illinois was required to consult with the FLMs under 40 CFR 51.308(i). Illinois consulted with the FLMs electronically and by telephone. The FLMs were also included in discussions with Illinois during MRPO conference calls and meetings. A draft regional haze plan was submitted for FLMs comments on August 6, 2009. Illinois then provided the FLMs a revised regional haze plan on October 7, 2010 for review. That provided the FLMs enough time to comment prior to the December 6, 2010, public hearing on the regional haze plan. Illinois has included comments from the FLMs in Attachment 9 to its regional haze plan, a document providing the comments Illinois received and its responses. The state has committed to consulting the FLMs on future SIP revisions and progress reports.

H. Comments

Illinois took comments on its proposed regional haze plan. It held a public hearing on December 6, 2010. The public comment period ended on January 5, 2011. Evidence of the public notice and evidence of the public hearing were submitted to EPA.

Illinois's submission includes a document, Attachment 9, which summarized the comments it received from both the FLMs and from the public and provides its responses to the comments. The state revised portions of its plan based on the comments to correct errors and clarify portions that caused confusion. Illinois responded to other comments without revising its plan. EPA concludes that Illinois has satisfied the requirements from 40 CFR Part 51, Appendix V to provide evidence that it gave public notice, took comments, and that it compiled and responded to comments.

V. What action is EPA taking?

EPA is proposing to approve revisions to the Illinois SIP, submitted on June 24, 2011, addressing regional haze for the first implementation period. The revisions address CAA and regional haze rule requirements for states to remedy any existing anthropogenic and prevent future impairment of visibility at Class I areas. EPA finds that Illinois has satisfied all the requirements and, thus, is proposing approval of the regional haze plan. EPA is also proposing to approve two state rules, MPS and CPS, and incorporating two permits, issued to City Water, Light, & Power and to Dominion Energy, into the SIP.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Intergovernmental relations, Nitrogen dioxide, Particulate matter, Reporting and recordkeeping requirements, Sulfur oxides, Volatile organic compounds.

Dated: January 17, 2012.
Susan Hedman,
Regional Administrator, Region 5.

[FR Doc. 2012-1606 Filed 1-25-12; 8:45 am]

BILLING CODE 6560-50-P